JUDICIAL CONFERENCE OF THE UNITED STATES

Committee on Rules of Practice and Procedure; Meeting of the Judicial Conference

AGENCY: Judicial Conference of the United States.

ACTION: Committee on Rules of Practice and Procedure; revised notice of open meeting.

SUMMARY: The Committee on Rules of Practice and Procedure will hold a meeting in a hybrid format with remote attendance options on January 7, 2025 in San Diego, CA as previously announced. The meeting is open to the public for observation but not participation. Please see the Supplementary Information section in this notice for instructions on observing the meeting.

DATES: January 7, 2025 (meeting date) and December 31, 2024 (registration deadline for in person observation).

ADDRESSES: An agenda and supporting materials will be posted at least 7 days in advance of the meeting at: https://www.uscourts.gov/rules-policies/records-and-archives-rules-committees/agenda-books.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: To observe the meeting in person, individuals must contact the office listed above by 5 p.m. (eastern time) on December 31, 2024. After this deadline, only remote observation is permitted. Remote registration is available until the meeting date, provided it is completed before the projected end time.

The announcement for this hearing was previously published in the Federal Register on October 28, 2024 at 89 FR 85557.

(Authority: 28 U.S.C. 2073.)

Dated: December 9, 2024.
Shelly L. Cox,
Management Analyst, Rules Committee Staff.

[FR Doc. 2024-29330 Filed 12-12-24; 8:45 am]

BILLING CODE 2210-55-P